DEPARTMENT OF LABOR

Office of Disability Employment Policy

Office of the 21st Century Workforce; and Center for Faith-Based Community Initiatives; Employment Training and Services Grants for Community and Faith-Based Organizations Serving People With Significant Disabilities (SGA 02-22)

AGENCY: Office of Disability Employment Policy, Department of Labor.

ACTION: Notice of Availability of Funds and Solicitation for Grant Applications for Employment Training and Services Grants for Community and Faith-Based Organizations Serving People with Significant Disabilities.

SUMMARY: The Office of Disability Employment Policy (ODEP) in collaboration with the Office of the 21st Century Workforce (Office of 21CW), and the Center for Faith-Based Community Initiatives (CFBCI or Center), announce the availability of up to $300,000 to award approximately three to five grants, ranging in amounts between $60,000 to $100,000 each, to community and faith-based organizations to implement model employment programs for people with significant disabilities ¹ for the purposes of developing new or enhancing existing employment training and/or services. Grant activities may include the purchase and utilization of, and training in, the use of electronic and information technology (e.g., computers, computer software, fax machines, copiers, Internet, distance learning equipment). The intent of these grants is to provide community and faith-based organizations that wish to do so with the technical ability to offer employment training and related services to people with significant disabilities as service providers participating as partners within their local One-Stop Career Center. These grants will be limited to public or private non-profit community and faith-based organizations with a demonstrated record of service to their local communities. All forms necessary to prepare an application are included in this Solicitation for Grant Application (SGA).

¹ For the purposes of this SGA, a person with a “significant disability” is defined as adult who has a physical or mental impairment that substantially limits one or more major life activities and has a record of such impairment.

DUE DATE: One ink-signed original, complete grant application plus two copies of the Technical Proposal and two copies of the Cost Proposal shall be submitted to the U.S. Department of Labor, Procurement Services Center, Attention Grant Officer, Reference SGA 02-22, Room N-5416, 200 Constitution Avenue, NW., Washington, DC 20210, not later than 4:45 p.m. Eastern Daylight Savings Time (EDST), September 4, 2002. Hand-delivered applications must be received by the Procurement Services Center by that time.

ADDRESS: Applications must be hand delivered or mailed to the U.S. Department of Labor, Procurement Services Center, Attention: Cassandra Willis, Reference SGA 02-22, Room N-5416, 200 Constitution Avenue, NW., Washington, DC 20210.

FOR FURTHER INFORMATION CONTACT: Application announcements or forms will not be mailed. The Federal Register may be obtained from your nearest government office or library. In addition, a copy of this notice and the application requirements may be downloaded from the Office of Disability Employment Policy's website at http://www2.dol.gov/odep. All applicants are advised that U.S. mail delivery in the Washington, DC area has been erratic due to concerns involving anthrax contamination. All applicants must take this into consideration when preparing to meet the application deadline. It is recommended that you confirm receipt of your application by contacting Cassandra Willis, U.S. Department of Labor, Procurement Services Center, telephone (202) 693-4570 (this is not a toll-free number), prior to the closing deadline. Persons who are deaf or hard of hearing may contact the Department via the Federal Relay Service, (800) 877-8339.

Acceptable Methods of Submission

The grant application package must be received at the designated place by the date and time specified or it will not be considered. Any application received at the Office of Procurement Services Center after 4:45 p.m., EDST, September 4, 2002, will not be considered unless it is received before the award is made and:

1. It was sent by registered or certified mail not later than the fifth calendar day before September 4, 2002; or

2. It was sent by U.S. Postal Service Express Mail Next Day Service-Post Office to Addressee, not later than 5:00 p.m. at the place of mailing two working days, excluding weekends and Federal holidays, prior to September 4, 2002; and/or

3. It is determined by the Government that the late receipt was due solely to mishandling by the Government after receipt at the U.S. Department of Labor at the address indicated.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore, applicants should request the postal clerk place a legible hand cancellation “bull's-eye” postmark on both the receipt and the envelope or wrapper.

The only acceptable evidence to establish the time of receipt at the U. S. Department of Labor is the date/time stamp of the Procurement Services Center on the application wrapper or other documentary evidence or receipt maintained by that office.

Applications sent by other delivery services, such as Federal Express, UPS, etc., will also be accepted; however the Department does not accept dates or date stamps on such packages as evidence of timely mailing. Thus, the applicant bears the responsibility of timely submission.

All applicants are advised that U.S. mail delivery in the Washington, DC area has been erratic due to concerns involving anthrax contamination. All applicants must take this into consideration when preparing to meet the application deadline. Therefore, it is recommended that you confirm receipt of your application by contacting Cassandra Willis, U.S. Department of Labor, Procurement Services Center, telephone (202) 693-4570 (this is not a toll-free number), prior to the closing deadline. Persons who are deaf or hard of hearing may contact the Department via the Federal Relay Service, (800) 877-8339.

SUPPLEMENTARY INFORMATION:

I. Authority

Consolidated Appropriations Act, 2001, Pub. L. 106-554, 114 Stat. 2763; 29 U.S.C. 557b; DOL, HHS, Education and Related Appropriations Act, 2002, Pub. L. 107-116, 115 Stat. 2177; 21st Century Workforce Initiative, Exec. Order No. 13218, 66 Fed. Reg. 33627 (June 20, 2001); Agency Responsibilities with Respect to Faith-Based and Community Initiatives, Exec. Order No. 13198, 66 FR 8497 (January 29, 2001).

II. Background

ODEP's mission is to provide leadership to increase employment opportunities for adults and youth with disabilities through expanded access to training, education, employment supports, assistive technology, integrated employment, entrepreneurial development and small business opportunities. ODEP also fosters the creation of employment opportunities by building partnerships with both public and private sector employers and with regional and local agencies to increase their awareness of the benefits of employing people with significant disabilities and to facilitate the use of the effective strategies to accomplish this goal.

The mission of the Office of the 21st CW is to ensure that all American workers have as fulfilling and financially rewarding a career as they aspire to have. Integral to this mission is making sure that no worker gets left behind in the limitless potential of the dynamic, global economy of this new millennium.

The Department of Labor's CFBCI seeks to create effective partnerships between faith-based and community-based organizations and the Department at the federal, state, and local levels. The purpose of these partnerships is to bring the faith-based and community-based organizations that are often in closest touch with the people and problems that are the focus of federal social policy efforts into the Department's employment and training programs.

The CFBCI coordinates a comprehensive departmental effort to incorporate faith-based and other community-based organizations into DOL programs and initiatives. CFBCI supports the creation of initiatives and programs within the Department that utilize the strengths of faith-based and community-based organizations to better address the needs of underprivileged populations. The Center directs national outreach efforts to educate faith-based and other community organizations about the opportunities for partnership with local One-Stop Career Centers, State and Local Workforce Investment Boards, State Workforce Agencies, and the U.S. Department of Labor. CFBCI also works in conjunction with DOL agencies to remove barriers to the participation of community and faith-based organizations in federal programs, including, but not limited to, the reform of regulations, procurement and other internal policies and practices, and outreach activities.

American workers with significant disabilities represent a potentially abundant labor resource for employers, but encounter a multitude of barriers, due, in part, to a lack of employment training opportunities, employment-related services and access to technology. Consequently, many people with significant disabilities have incomes at or below the poverty rate and are economically disadvantaged.

This SGA reflects collaboration between ODEP, Office of 21CW, and CFBCI born out of a commitment by each of these offices to ensure that people with significant disabilities acquire the skills and services they need to become employed through the One-Stop System in a variety of jobs, industries, and levels, based on consumer choice. A key component to employment success in the 21st century work place is access to primary resources, such as electronic and information technology (e.g., computers, computer software, fax machines, copiers, Internet, distance learning equipment). This SGA addresses the lack of these key resources by providing community and faith-based organizations with appropriate technological and other resources needed to allow them to effectively provide employment services to people with disabilities.

Throughout the nation, local community organizations, many of which are faith-based, make significant efforts to provide support and social services to people with significant disabilities. These efforts include, but are not limited to, food, shelter, counseling, and financial support. Increasingly, these efforts include employment training and placement assistance.

The effectiveness of employment training and services provided by community and faith-based organizations, however, is often thwarted by a lack of technological and other resources necessary to comprehensively address the employment needs of the individuals with significant disabilities. Incorporating community and faith-based organizations as employment service providers in the One-Stop Center System under the Workforce Investment Act of 1998 (WIA) (Public Law 105-220, 29 U.S.C. 2801 et seq.) will help to address this need. Access to electronic and information technology has the potential to increase the ability of these types of organizations to administer other social service programs such as those aimed at homelessness and reduced dependency on federally funded social programs.

Technology creates gateways to jobs and training for people with significant disabilities. Specialized devices, known as assistive technology, in conjunction with generic technology products and services designed for the broadest number of users (“universal design”) enable a person with a disability to earn a living and participate in the community. However, the resources for local community and faith-based organizations are limited. Many of these organizations are only able to operate through the support of community churches, synagogues, and other community-based and faith-based organizations. Their strength is frequently found in the humanity of their efforts and the support of their volunteers who contribute time and money. Additionally, these same organizations are often not equipped to apply for federal grants because of the complexity of the grant process.

As a result, community and faith-based organizations often lack the capacity and resources to provide employment or placement assistance services in the most effective or innovative manner. With access to appropriate technological and other resources, however, many local community and faith-based organizations may be in an excellent position to assist in increasing employment opportunities for the population with disabilities that they serve.

III. Purpose

The purpose of this grant program is to enable community and faith-based organizations, to institute and/or expand upon the level of employment-related services they provide to people with significant disabilities in their training and services programs, working in direct connection with the One-Stop Center system. Specifically, these organizations will have the opportunity to become active in or expand upon their current activities supporting the employment needs of people with significant disabilities. Where needed to further employment training and services to people with significant disabilities, this grant may be used to acquire distance learning capabilities and access electronic and information technology (e.g., computers, computer software, fax machines, copiers, Internet, distance learning equipment).

In responding to this SGA, the applicants must take into account the following parameters of the project:

• This SGA supports three to five grant demonstrations, not to exceed the amount of $100,000 each, for community and faith-based organizations that institute or expand their services to include an employment services program.

• The demonstration must support employment opportunities for people with significant disabilities in the applicant's local community.

• The SGA does not require applicants to pursue access or acquisition to technology or technological training, but applicants are encouraged to consider conducting such activities where a need has been identified.

• Where necessary, accessible electronic, assistive, and information technology (e.g., computers, computer software, fax machines, copiers, Internet, distance learning equipment) may be purchased using grant funds to use in training customers with disabilities for gainful employment and to allow them to better access employment-related training and other services. This equipment will become the property of the grantee at the end of the grant period.

• An applicant can consider a range of model demonstration activities using technology, including the use of loaned accessible equipment for the home to enable the person to become trained and/or employed (e.g., laptop, adapted computer keyboards, large button keypads, software, TTY) or the use of technology where the organization is located to enable people with significant disabilities to search for jobs (e.g., Internet access and training on how to write and format a scannable resume, job search using the Internet).

• The applicant must explain how it will keep track of electronic and information technology equipment that is purchased with grant funds for use in an individual's home.

IV. Statement of Work

A successful applicant must initiate and/or expand its current support and social services programs to include employment training and services for people with significant disabilities and forge a link with the local One-Stop Center. In developing these strategies, the applicant must specifically outline its plan for: (1) Staffing and support of the proposed project; (2) recruitment of people with significant disabilities in the community who may benefit from employment training and services; and (3) the acquisition, installation, and maintenance of electronic and information technology (e.g., computers, computer software, fax machines, copiers, Internet, distance learning equipment) either at the organization's location or in the person with disabilities' home if necessary to implement the proposed project. The applicant organizations must be prepared to implement their proposed employment training and services programs in accordance with the descriptions presented in their grant proposal.

In addition the applicant must:

• Provide a detailed plan for project goals, objectives, and activities;

• Produce procedures and materials that would enable other local community and faith-based organizations to adopt the best practices derived from this project;

• Explain how it will integrate employment training and employment services for people with significant disabilities into the existing infrastructure of the services and support it provides; and,

• Explain how it will work within the local One-Stop Center(s) to address barriers to employment for people with significant disabilities including those relating to access to technology. Also, the grantees must be prepared to submit a report of progress, six months after the award begins; and, a final report describing the grant's achievements, upon the conclusion of the award. These reports will be from three to six pages in length, with no more than two pages exclusively devoted to a progress narrative.

V. Funding Availability

The total amount of the funds to be awarded is $300,000, with individual awards of between $60,000 and $100,000. Accordingly, approximately three to five grants will be awarded. It is expected that the funds used for this SGA will support the costs associated with the development and implementation of an employment services training program in a community and faith-based organization, that, where feasible, employs the use of information technology (e.g., computers, computer software, fax machines, copiers, Internet, distance learning equipment).

VI. Eligible Applicants

Eligible applicants must be community and faith-based organizations operating at the local level. They must be public or private non-profit organizations, including community-based and faith-based organizations, with a demonstrated record of service to the community. States and other governmental entities are not eligible. Under Section 18 of the Lobbying Disclosure Act of 1995, an organization, as described in section 501(c)(4) of the Internal Revenue Code of 1986, that engages in lobbying activities is not eligible for the receipt of federal funds constituting an award, grant, or loan. See 2 U.S.C. § 1611; 26 U.S.C. § 501(c)(4).

VII. Application Contents

There are three required Parts and an Appendix of the application. Requirements for each Part are provided in this application package, as are all required forms.

Part I—Project Financial Plan (Budget).

Part II—Executive Summary.

Part III—Project Narrative.

Appendices—Letters of Commitment/Support, Resumes, etc.

General Requirements

Two copies and an original of the proposal must be submitted, one of which must contain an original signature. Proposals must be submitted by the applicant only. Page limits do not apply to the Project Financial Plan, the Executive Summary, or the Appendices (assurances, resumes, bibliography or references as appropriate, and letters of support.) A font size of at least twelve point is required throughout.

Part I—Project Financial Plan (Budget)

To be considered, applications must include a detailed financial plan that identifies by line item the budget plan designed to achieve the goals of this grant. The Project Financial Plan must contain the SF-424, Application for Federal Assistance, (Appendix A) and an SF-424A Budget Information Sheet (Appendix B). The Project Financial Plan (Budget) must include on a separate page a detailed cost analysis of each line item. Justification for administrative costs must be provided. Approval of a budget by DOL is not the same as the approval of actual costs. The individual signing the SF-424 on behalf of the applicant must represent and be able to bind the responsible financial and administrative entity for a grant should that application result in an award.

Part II—Executive Summary

The application must contain an Executive Summary limited to no more than two single-spaced, single-sided pages that are not included in the overall page limit. Each application must provide a grant synopsis that identifies the following:

• The Applicant's capacity to administer this project including its demonstrated record of service to the community;

• The geographic area to be served through this grant; and

• The amount of funding requested and planned period of performance up to a year.

Part III—Project Narrative

The project narrative must describe how the applicant, as an employment service provider in the local One-Stop system, will provide employment services for people with significant disabilities. Specifically, the project narrative should set forth the strategic plan to implement the Statement of Work set forth earlier in this document. In developing the project narrative, the following should be incorporated:

• A description of the population to be served;

• A description of the employment training and/or services to be provided;

• A description of the current, if any, and/or proposed involvement with the local One-Stop Center;

• A description of the applicant's experience, if any, in managing resources through grant awards, from Federal, State or units of local governments, and/or from private organizations; and

• A description of the applicant's objectives, how the project results will be measured, and who will be responsible for providing DOL with financial and other information.

This project narrative may not exceed 15 pages. The narrative will be evaluated in accordance with the Evaluation Criteria/Selection section of this document. A Technical Evaluation Panel will assign scores that are based on how well the project narrative meets the evaluation criteria described in Section VIII of this solicitation. The panel will make recommendations to the Grant officer who will make the final determination based on all available information.

VIII. Evaluation Criteria/Selection

A. Evaluation Criteria

In evaluating the significance of the proposed project, the Department will consider the following factors:

(1). The potential of the proposed project to impact the employment opportunities of people with significant disabilities, including persons whose disabilities arise from chronic illnesses; and, its plans to work with the local One-Stop Center. (See Statement of Work section on preceding pages of this document for further guidance on what will be evaluated in this section of your proposal)—50 points

(2). The current employment needs of people with significant disabilities that this proposed project will attempt to meet (offer any statistics, case studies or other information which outline the reasons why the proposed grant program is needed in the community)—20 points

(3). The qualifications of available staff, including volunteer staff (identify who will direct and/or operate your proposed program and include in your proposal either resumes or brief summary statements indicative of their capabilities to deliver the proposed employment support services that you wish to fund under this grant program)—10 points

(4). Evidence of past community service by the organization (either describe or include in the Appendices any relevant articles, reports, statements, etc. which attest to the organization's record of serving your community with any kind of social services or support)—15 points

(5). The methodology for measuring success of this project. The objectives must be clearly defined and the applicant must describe how it will report: (a) The number of participants served; (b) the number of participants who received employment; (c) the types of training and/or services provided; and (d) the number of applicants that were referred for more advanced job training in the local One-Stop Center—5 points

B. Selection Criteria

Acceptance of a proposal and an award of federal funds to sponsor any program(s) is not a waiver of any grant requirement and/or procedures. Awardees must comply with all applicable Federal statutes, regulations, administrative requirements and OMB Circulars. For example, the OMB circulars require, and an entity's procurement procedures must require, that all procurement transactions shall be conducted, as practical, to provide open and free competition. If a proposal identifies a specific entity to provide the services, the award does not provide the justification or basis to sole-source the procurement, i.e., to avoid competition.

A panel will objectively rate each complete application against the criteria described in this solicitation. The panel recommendations to the Grant Officer are advisory in nature. The Grant Officer may elect to award a cooperative agreement either with or without discussion with the applicant. In situations where no discussion occurs, an award will be based on the signed SF-424 form (see Appendix A), which constitutes a binding offer. The Grant Officer may consider the availability of funds and any information that is available and will make final award decisions based on what is most advantageous to the government, considering factors such as:

1. Findings of the technical evaluation panel;

2. Geographic distribution of the competitive applications;

3. Assuring a variety of program designs; and,

4. The availability of funds.

The Establishment Clause of the First Amendment of the United States Constitution prohibits the government from directly funding religious activity. These grants may not be used for instruction in religion or sacred literature, worship, prayer, proselytizing or other inherently religious practices. The services provided under these grants must be secular and non-ideological. Grant or sub-grant recipients, therefore, may not and will not be defined by reference to religion. Neutral, secular criteria that neither favor nor disfavor religion must be employed in their selection. In addition, under the WIA and DOL regulations implementing the Workforce Investment Act, a recipient may not employ or train a participant in sectarian activities, or permit participants to construct, operate, or maintain any part of a facility that is primarily used or devoted to sectarian instruction or worship. Under WIA, no individual shall be excluded from participation in, denied the benefits of, subjected to discrimination under, or denied employment in the administration of or in connection with, any such program or activity because of race, color, religion, sex (except as otherwise permitted under title IX of the Education Amendments of 1972), national origin, age, disability, or political affiliation or belief.

IX. Reporting

The grantee must furnish a progress report at the 6-month anniversary of the award; and a final report due approximately 45 days from the day of completion of the grant (approximately 12 months from the execution of the grant award). These reports should be no more than two pages of narrative, discussing the organization's efforts and progress in meeting the objectives of its proposal. Additionally, these reports should identify specific accounts of success in achieving employment outcomes and other accomplishments of the grant. In addition, a brief standard financial report will be required with each report.

X. Administration Provisions

A. Administrative Standards and Provisions

Grants awarded under this SGA are subject to the following:

29 CFR Part 95— Grants and Agreements With Institutions of Higher Education, Hospitals, and Other Non-Profit Organizations, and With Commercial Organizations, Foreign Governments, Organizations Under the Jurisdiction of Foreign Governments, and International Organizations

29 CFR Part 96—Audit Requirements for Grants, Contracts and Other Agreements

B. Allowable Cost

Determinations of allowable costs shall be made in accordance with the following applicable Federal cost principles:

Nonprofit Organizations—OMB Circular A-122

Profit will not be considered an allowable cost in any case.

C. Grant Non-Discrimination Assurances

As a condition of the award the applicant must certify that it will comply with the nondiscrimination and equal opportunity provisions of the following laws:

29 CFR Part 31—Nondiscrimination in Federally-assisted programs of the Department of Labor, effectuation of Title VI of the Civil Rights Act of 1964

29 CFR Part 32—Nondiscrimination on the Basis of Disability in Programs and Activities Receiving or Benefiting from Federal Assistance. (Implementing section 504 of the Rehabilitation Act, 29 U.S.C. 794)

29 CFR Part 36—Nondiscrimination on the Basis of Sex in Education Programs or Activities Receiving Federal Financial Assistance (Implementing Title IX of the Education Amendments of 1972, 20 U.S.C. 1681 et seq.)

29 CFR Part 37—Nondiscrimination and Equal Opportunity Provisions of the Workforce Investment Act of 1998 (WIA) (Implementing Section 188 of the Workforce Investment Act, 29 U.S.C. 2938)

The applicant must include assurances and certifications that it will comply with these laws in its grant application. The assurances and certifications are attached as Appendix C.

Signed at Washington, DC this 30th day of, July 2002.
Lawrence J. Kuss,
Grant Officer.

Appendix A. Application for Federal Assistance, Form SF 424

Appendix B. Budget Information Sheet, Form SF 424A

Appendix C. Assurances and Certifications Signature Page

BILLING CODE 4510-CX-P

[FR Doc. 02-19639 Filed 8-2-02; 8:45 am]

BILLING CODE 4510-CX-C